DEPARTMENT OF HOMELAND SECURITY

Federal Emergency Management Agency

[Docket ID FEMA-2018-0002; Internal Agency Docket No. FEMA-B-1810]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: February 23, 2018.
Roy E. Wright,
Deputy Associate Administrator for Insurance and Mitigation, Department of Homeland Security, Federal Emergency Management Agency.

State and county | Location and case No. | Chief executive officer of community | Community map repository | Online location of letter of map revision | Date of modification | Community No.
Arkansas: Benton | City of Rogers (17-06-4054P) | The Honorable Greg Hines, Mayor, City of Rogers, 301 West Chestnut Street, Rogers, AR 72756 | City Hall, 301 West Chestnut Street, Rogers, AR 72756 | https://msc.fema.gov/portal/advanceSearch | May 14, 2018 | 050013
Colorado:
Boulder | City of Boulder, (17-08-0797P) | Ms. Jane S. Brautigam, Manager, City of Boulder, P.O. Box 791, Boulder, CO 80306 | City Hall, 1739 Broadway, 3rd Floor, Boulder, CO 80306 | https://msc.fema.gov/portal/advanceSearch | May 31, 2018 | 080024
Broomfield | City and County of Broomfield, (17-08-0870P) | The Honorable Randy Ahrens, Mayor, City and County of Broomfield, 1 DesCombes Drive, Broomfield, CO 80020 | Community Development Department, 1 DesCombes Drive, Broomfield, CO 80020 | https://msc.fema.gov/portal/advanceSearch | May 4, 2018 | 085073
Douglas | Town of Parker, (17-08-1041P) | The Honorable Mike Waid, Mayor, Town of Parker, 20120 East Main Street, Parker, CO 80138 | Town Hall, 20120 East Main Street, Parker, CO 80138 | https://msc.fema.gov/portal/advanceSearch | May 18, 2018 | 080310
Douglas | Unincorporated areas of Douglas County, (17-08-1041P) | The Honorable Roger Partridge, Chairman, Douglas County Board of Commissioners, 100 3rd Street, Castle Rock, CO 80104 | Douglas County Planning Division, 100 3rd Street, Castle Rock, CO 80104 | https://msc.fema.gov/portal/advanceSearch | May 18, 2018 | 080049
El Paso | City of Colorado Springs, (17-08-1081P) | The Honorable John Suthers, Mayor, City of Colorado Springs, 30 South Nevada Avenue, Suite 601, Colorado Springs, CO 80903 | City Hall, 30 South Nevada Avenue, Colorado Springs, CO 80903 | https://msc.fema.gov/portal/advanceSearch | May 17, 2018 | 080060
Jefferson | City of Westminster, (17-08-0870P) | The Honorable Herb Atchison, Mayor, City of Westminster, 4800 West 92nd Avenue, Westminster, CO 80031 | City Hall, 4800 West 92nd Avenue, Westminster, CO 80031 | https://msc.fema.gov/portal/advanceSearch | May 4, 2018 | 080008
Teller | City of Woodland Park, (17-08-0477P) | The Honorable Neil Levy, Mayor, City of Woodland Park, P.O. Box 9007, Woodland Park, CO 80866 | City Hall, 220 West South Avenue, Woodland Park, CO 80866 | https://msc.fema.gov/portal/advanceSearch | Apr. 19, 2018 | 080175
Teller | Unincorporated areas of Teller County, (17-08-0477P) | The Honorable Dave Paul, Chairman, Teller County, Board of Commissioners, P.O. Box 959, Cripple Creek, CO 80813 | Teller County Planning Department, 800 Research Drive, Woodland Park, CO 80866 | https://msc.fema.gov/portal/advanceSearch | Apr. 19, 2018 | 080173
Delaware: Kent | City of Dover, (17-03-0901P) | The Honorable Robin R. Christiansen, Mayor, City of Dover, P.O. Box 475, Dover, DE 19903 | Department of Planning and Inspection, 15 Lookerman Plaza, Dover, DE 19901 | https://msc.fema.gov/portal/advanceSearch | Jun. 4, 2018 | 100006
Florida:
Charlotte | Unincorporated areas of Charlotte County, (17-04-7978P) | The Honorable Bill Truex, Chairman, Charlotte County Board of Commissioners, 18500 Murdock Circle, Suite 536, Port Charlotte, FL 33948 | Charlotte County Community Development Department, 18500 Murdock Circle, Port Charlotte, FL 33948 | https://msc.fema.gov/portal/advanceSearch | Apr. 26, 2018 | 120061
Hillsborough | Unincorporated areas of Hillsborough County, (17-04-5216P) | The Honorable Sandra Murman, Chair, Hillsborough County Board of Commissioners, 601 East Kennedy Boulevard, Tampa, FL 33602 | Hillsborough County Building Services Division, 601 East Kennedy Boulevard, Tampa, FL 33602 | https://msc.fema.gov/portal/advanceSearch | May 21, 2018 | 120112
Lee | City of Sanibel, (17-04-6485P) | The Honorable Kevin Ruane, Mayor, City of Sanibel, 800 Dunlop Road, Sanibel, FL 33957 | Planning and Code Enforcement Department, 800 Dunlop Road, Sanibel, FL 33957 | https://msc.fema.gov/portal/advanceSearch | May 10, 2018 | 120402
Orange | City of Orlando, (17-04-3609P) | The Honorable Buddy Dyer, Mayor, City of Orlando, P.O. Box 4990, Orlando, FL 32802 | City Hall, 400 South Orange Avenue, Orlando, FL 32801 | https://msc.fema.gov/portal/advanceSearch | May 16, 2018 | 120186
Palm Beach | City of Riviera Beach, (17-04-6959P) | The Honorable Thomas A. Masters, Mayor, City of Riviera Beach, 600 West Blue Heron Boulevard, Riviera Beach, FL 33404 | Department of Community Development, 600 West Blue Heron Boulevard, Riviera Beach, FL 33404 | https://msc.fema.gov/portal/advanceSearch | May 4, 2018 | 125142
Palm Beach | Unincorporated areas of Palm Beach County, (17-04-6959P) | The Honorable Melissa McKinlay, Mayor, Palm Beach County, 301 North Olive Avenue, Suite 1201, West Palm Beach, FL 33401 | Palm Beach County Building Department, 2300 North Jog Road, West Palm Beach, FL 33411 | https://msc.fema.gov/portal/advanceSearch | May 4, 2018 | 120192
Polk | City of Lakeland, (17-04-7441P) | The Honorable William Mutz, Mayor, City of Lakeland, 228 South Massachusetts Avenue, Lakeland, FL 33801 | Public Works Department, 407 Fairway Avenue, Lakeland, FL 33801 | https://msc.fema.gov/portal/advanceSearch | May 31, 2018 | 120267
Georgia:
Floyd | City of Cave Spring, (17-04-3382P) | The Honorable Dennis Shoaf, Mayor, City of Cave Spring, 10 Georgia Avenue, Cave Spring, GA 30124 | City Hall, 10 Georgia Avenue, Cave Spring, GA 30124 | https://msc.fema.gov/portal/advanceSearch | May 11, 2018 | 130080
Floyd | Unincorporated areas of Floyd County, (17-04-3382P) | The Honorable Rhonda Wallace, Chair, Floyd County Board of Commissioners, 12 East 4th Avenue, Rome, GA 30161 | Floyd County Building Inspections Department, 12 East 4th Avenue, Rome, GA 30161 | https://msc.fema.gov/portal/advanceSearch | May 11, 2018 | 130079
Gwinnett | Unincorporated areas of Gwinnett County, (17-04-5175P) | The Honorable Charlotte E. Nash, Chair, Gwinnett County Board of Commissioners, 75 Langley Drive, Lawrenceville, GA 30046 | Gwinnett County Planning and Development Department, 446 West Crogan Street, Lawrenceville, GA 30046 | https://msc.fema.gov/portal/advanceSearch | Mar. 19, 2018 | 130322
Gwinnett | Unincorporated areas of Gwinnett County, (17-04-7249P) | The Honorable Charlotte E. Nash, Chair, Gwinnett County Board of Commissioners, 75 Langley Drive, Lawrenceville, GA 30046 | Gwinnett County Planning and Development Department, 446 West Crogan Street Lawrenceville, GA 30046 | https://msc.fema.gov/portal/advanceSearch | Mar. 22, 2018 | 130322
Kentucky: Fayette | Lexington-Fayette Urban County Government, (17-04-5322P) | The Honorable Jim Gray, Mayor, Lexington-Fayette Urban County Government, 200 East Main Street, Lexington, KY 40507 | Planning Division, 101 East Vine Street, Lexington, KY 40507 | https://msc.fema.gov/portal/advanceSearch | May 16, 2018 | 210067
Louisiana: Tangipahoa | Unincorporated areas of Tangipahoa Parish, (17-06-1567P) | The Honorable Robby Miller, President, Tangipahoa Parish, P.O. Box 215, Amite, LA 70422 | Tangipahoa Parish Department of Public Works, 44512 West Pleasant Ridge Road, Hammond, LA 70401 | https://msc.fema.gov/portal/advanceSearch | Mar. 15, 2018 | 220206
Maine:
Knox | Town of Isle au Haut, (17-01-1368P) | The Honorable Peggi Stevens, Chair, Town of Isle au Haut Board of Selectmen, P.O. Box 71, Isle au Haut, ME 04645 | Town Hall, 1 Main Street, Isle au Haut, ME 04645 | https://msc.fema.gov/portal/advanceSearch | Apr. 6, 2018 | 230227
Oxford | Town of Hartford, (18-01-0057P) | The Honorable Lee Holman, Chair, Town of Hartford Board of Selectmen, 1196 Main Street, Hartford, ME 04220 | Town Hall, 1196 Main Street, Hartford, ME 04220 | https://msc.fema.gov/portal/advanceSearch | May 10, 2018 | 230334
Massachusetts: Plymouth | Town of Wareham, (17-01-0909P) | Mr. Derek Sullivan, Administrator, Town of Wareham, 54 Marion Road, Wareham, MA 02571 | Town Hall, 54 Marion Road, Wareham, MA 02571 | https://msc.fema.gov/portal/advanceSearch | Mar. 23, 2018 | 255223
Montana:
Big Horn | Unincorporated areas of Big Horn County, (17-08-0336P) | The Honorable Chad Fenner, Chairman, Big Horn County Board of Commissioners, P.O. Box 908, Hardin, MT 59034 | Big Horn County Health Department, 809 North Custer Avenue, Hardin, MT 59034 | https://msc.fema.gov/portal/advanceSearch | Jun. 1, 2018 | 300143
Ravalli | Unincorporated areas of Ravalli County, (17-08-0795P) | The Honorable Greg Chilcott, Chairman, Ravalli County Board of Commissioners, 215 South 4th Street, Suite A, Hamilton, MT 59840 | Ravalli County Planning Department, 215 S 4th Street, Suite F, Hamilton, MT 59840 | https://msc.fema.gov/portal/advanceSearch | May 14, 2018 | 300061
North Carolina:
Mecklenburg | Town of Huntersville, (17-04-6263P) | The Honorable John Aneralla, Mayor, Town of Huntersville, P.O. Box 664, Huntersville, NC 28070 | Planning Department, 105 Gilead Road, 3rd Floor, Huntersville, NC 28078 | https://msc.fema.gov/portal/advanceSearch | May 4, 2018 | 370478
Mecklenburg | Town of Huntersville, (17-04-6264P) | The Honorable John Aneralla, Mayor, Town of Huntersville, P.O. Box 664, Huntersville, NC 28070 | Planning Department, 105 Gilead Road, 3rd Floor, Huntersville, NC 28078 | https://msc.fema.gov/portal/advanceSearch | May 18, 2018 | 370478
Rhode Island: Providence | City of Providence, (17-01-1322P) | The Honorable Jorge O. Elorza, Mayor, City of Providence, 25 Dorrance Street, Providence, RI 02903 | Department of Inspection and Standards, 444 Westminster Street, Providence, RI 02903 | https://msc.fema.gov/portal/advanceSearch | Mar. 16, 2018 | 445406
Tennessee:
Wilson | City of Lebanon, (17-04-4038P) | The Honorable Bernie Ash, Mayor, City of Lebanon, 200 North Castle Heights Avenue, Suite 100, Lebanon, TN 37087 | Engineering Department, 200 North Castle Heights Avenue, Suite 300, Lebanon, TN 37087 | https://msc.fema.gov/portal/advanceSearch | May 4, 2018 | 470208
Wilson | Unincorporated areas of Wilson County, (17-04-4038P) | The Honorable Randall Hutto, Mayor, Wilson County, 228 East Main Street Lebanon, TN 37087 | Wilson County Planning Department, 228 East Main Street Lebanon, TN 37087 | https://msc.fema.gov/portal/advanceSearch | May 4, 2018 | 470207
Texas:
Collin | City of Anna, (17-06-1736P) | The Honorable Nate Pike, Mayor, City of Anna, P.O. Box 776, Anna, TX 75409 | City Hall, 120 West 4th Street, Anna, TX 75409 | https://msc.fema.gov/portal/advanceSearch | Apr. 16, 2018 | 480132
Collin | City of Murphy, (17-06-1778P) | Mr. Mike Castro, Ph.D., Manager, City of Murphy, 206 North Murphy Road, Murphy, TX 75094 | City Hall, 206 North Murphy Road, Murphy, TX 75094 | https://msc.fema.gov/portal/advanceSearch | Apr. 6, 2018 | 480137
Collin | Unincorporated areas of Collin County, (17-06-1736P) | The Honorable Keith Self, Collin County Judge, 2300 Bloomdale Road, Suite 4192, McKinney, TX 75071 | Collin County Engineering Department, 4690 Community Avenue, Suite 200, McKinney, TX 75071 | https://msc.fema.gov/portal/advanceSearch | Apr. 16, 2018 | 480130
Dallas | City of Dallas, (17-06-2978P) | The Honorable Michael S. Rawlings, Mayor, City of Dallas, 1500 Marilla Street, Suite 5EN, Dallas, TX 75201 | Engineering Department, 320 East Jefferson Boulevard, Room 200, Dallas, TX 75203 | https://msc.fema.gov/portal/advanceSearch | Mar. 26, 2018 | 480171
Denton | City of Carrollton, (17-06-2506P) | The Honorable Kevin Falconer, Mayor, City of Carrollton, P.O. Box 110535, Carrollton, TX 75011 | City Hall, 1945 East Jackson Street, Carrollton, TX 75006 | https://msc.fema.gov/portal/advanceSearch | May 10, 2018 | 480167
Denton | City of The Colony, (17-06-2506P) | The Honorable Joe McCourry, Mayor, City of The Colony, 6800 Main Street, The Colony, TX 75056 | City Hall, 6800 Main Street, The Colony, TX 75056 | https://msc.fema.gov/portal/advanceSearch | May 10, 2018 | 481581
Harris and Montgomery | City of Houston, (17-06-2680P) | The Honorable Sylvester Turner, Mayor, City of Houston, P.O. Box 1562, Houston, TX 77251 | Department of Public Works and Engineering, 1002 Washington Avenue, 3rd Floor, Houston, TX 77002 | https://msc.fema.gov/portal/advanceSearch | Apr. 9, 2018 | 480296
Montgomery | City of Conroe, (17-06-2100P) | The Honorable Toby Powell, Mayor, City of Conroe, 300 West Davis Street, Conroe, TX 77301 | Engineering Department, 300 West Davis Street, Conroe, TX 77301 | https://msc.fema.gov/portal/advanceSearch | Apr. 9, 2018 | 480484
Montgomery | City of Panorama Village, (17-06-2100P) | The Honorable Lynn Scott, Mayor, City of Panorama Village, 99 Hiwon Drive, Panorama Village, TX 77304 | City Hall, 99 Hiwon Drive, Panorama Village, TX 77304 | https://msc.fema.gov/portal/advanceSearch | Apr. 9, 2018 | 481263
Montgomery | Unincorporated areas of Montgomery County, (17-06-2680P) | The Honorable Craig B. Doyal, Montgomery County Judge, 501 North Thompson Street, Suite 401, Conroe, TX 77301 | Montgomery County, Permit Department, 501 North Thompson Street, Suite 100, Conroe, TX 77301 | https://msc.fema.gov/portal/advanceSearch | Apr. 9, 2018 | 480483
Rockwall | City of Rockwall, (17-06-3552P) | The Honorable Jim Pruitt, Mayor, City of Rockwall, 385 South Goliad Street, Rockwall, TX 75087 | Public Works Department, 385 South Goliad Street, Rockwall, TX 75087 | https://msc.fema.gov/portal/advanceSearch | May 14, 2018 | 480547
Smith | City of Tyler, (17-06-1762P) | The Honorable Martin Heines, Mayor, City of Tyler, P.O. Box 2039, Tyler, TX 75710 | Development Services Department, 423 West Ferguson Street, Tyler, TX 75702 | https://msc.fema.gov/portal/advanceSearch | May 10, 2018 | 480571
Tarrant | City of Fort Worth, (17-06-2261P) | The Honorable Betsy Price, Mayor, City of Fort Worth, 200 Texas Street, Fort Worth, TX 76102 | Department of Transportation and Public Works, 200 Texas Street, Fort Worth, TX 76102 | https://msc.fema.gov/portal/advanceSearch | May 17, 2018 | 480596
Tarrant | City of Fort Worth, (17-06-4076P) | The Honorable Betsy Price, Mayor, City of Fort Worth, 200 Texas Street, Fort Worth, TX 76102 | Department of Transportation and Public Works, 200 Texas Street, Fort Worth, TX 76102 | https://msc.fema.gov/portal/advanceSearch | May 24, 2018 | 480596
Tarrant | City of Fort Worth, (17-06-4079P) | The Honorable Betsy Price, Mayor, City of Fort Worth, 200 Texas Street, Fort Worth, TX 76102 | Department of Transportation and Public Works, 200 Texas Street, Fort Worth, TX 76102 | https://msc.fema.gov/portal/advanceSearch | May 24, 2018 | 480596
Tarrant | City of Haltom City, (17-06-4081P) | The Honorable David Averitt, Mayor, City of Haltom City, 5024 Broadway Avenue, Haltom City, TX 76117 | Public Works Services Department, 4200 Hollis Street, Haltom City, TX 76111 | https://msc.fema.gov/portal/advanceSearch | May 14, 2018 | 480599
Utah: Washington | City of St. George, (17-08-0793P) | The Honorable Jon Pike, Mayor, City of St. George, 175 East 200 North, St. George, UT 84770 | City Hall, 175 East 200 North, St. George, UT 84770 | https://msc.fema.gov/portal/advanceSearch | May 25, 2018 | 490177
Virginia: Stafford | Unincorporated areas of Stafford County, (17-03-2308P) | Mr. Thomas C. Foley, Stafford County Administrator, P.O. Box 339, Stafford, VA 22555 | Stafford County Department of Planning and Zoning, 1300 Courthouse Road, Stafford, VA 22554 | https://msc.fema.gov/portal/advanceSearch | May 31, 2018 | 510154

[FR Doc. 2018-05180 Filed 3-13-18; 8:45 am]

BILLING CODE 9110-12-P